DEPARTMENT OF STATE

[Public Notice 8256]

Advisory Committee for the U.S. National Commission for UNESCO; Renewal

The Department of State has renewed the Charter of the Advisory Committee for the U.S. National Commission for UNESCO. This advisory committee makes recommendations to the U.S. Department of State. The primary focus of these recommendations relate to the formulation and implementation of U.S. policy towards UNESCO on matters of education, science, communications, and culture. Also, it functions as a liaison with organizations, institutions, and individuals in the United States interested in the work of UNESCO.

The committee is comprised of representatives from various non-governmental organizations interested in matters of education, science, culture, and communications. And it also includes at-large individuals and state, local, and federal government representatives. The committee meets annually with the Commission to provide information on UNESCO related topics and make recommendations.

For further information, please call Francine Randolph, U.S. Department of State, (202) 663-0026.

Dated: January 17, 2013.
Jennifer Eldridge,
Acting Office Director, Advisory Committee for the U.S. National Commission for UNESCO.

[FR Doc. 2013-06900 Filed 3-25-13; 8:45 am]

BILLING CODE 4710-19-P